FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than December 4, 2008.

A. Federal Reserve Bank of New York (Ivan Hurwitz, Bank Applications Officer) 33 Liberty Street, New York, New York 10045-0001:

1. Morgan Stanley, to acquire up to 9.9 percent of the voting shares of Heritage Bank, N.A. (in organization), both of New York, New York.

B. Federal Reserve Bank of Chicago (Burl Thornton, Assistant Vice President) 230 South LaSalle Street, Chicago, Illinois 60690-1414:

1. First Community Financial Partners, Inc., Joliet, Illinois, to acquire at least 50.1 percent of the voting shares of Burr Ridge Bank and Trust (in organization), Burr Ridge, Illinois.

2. Golden Eagle Bancorp, Inc., to become a bank holding company by acquiring 100 percent of the voting shares of Golden Eagle Community Bank, both of Woodstock, Illinois.

In connection with this application, Applicant also has applied to engage in extending credit and servicing loans, pursuant to section 225.28(b)(1) of Regulation Y.

C. Federal Reserve Bank of Dallas (E. Ann Worthy, Vice President) 2200 North Pearl Street, Dallas, Texas 75201-2272:

1. Independent Bank Group, Inc., to acquire by merger 100 percent of Independent Bank Group Central Texas, Inc., both of McKinney, Texas, and thereby indirectly acquire voting shares of Independent Bank, Waco, Texas.

Board of Governors of the Federal Reserve System, November 4, 2008.
Jennifer J. Johnson,
Secretary of the Board.

[FR Doc. E8-26603 Filed 11-06-08; 8:45 am]

BILLING CODE 6210-01-S